DEPARTMENT OF ENERGY

Federal Energy Regulatory Commission

Combined Notice of Filings #1

Take notice that the Commission received the following electric corporate filings:

Docket Numbers: EC25-25-001.

Applicants: Heritage Power, LLC, Blossburg Power, LLC, Brunot Island Power, LLC, Gilbert Power, LLC, Hamilton Power, LLC, Heritage Power Marketing, LLC, Hunterstown Power, LLC, Mountain Power, LLC, New Castle Power, LLC, Niles Power, LLC, Orrtanna Power, LLC, Portland Power, LLC, Sayreville Power, LLC, Shawnee Power, LLC, Shawville Power, LLC, Titus Power, LLC, Tolna Power, LLC, Warren Generation, LLC.

Description: Notice of Change in Circumstances of Heritage Power, LLC.

Filed Date: 4/23/25.

Accession Number: 20250423-5283.

Comment Date: 5 p.m. ET 5/14/25.

Docket Numbers: EC25-80-000.

Applicants: Badger Wind, LLC.

Description: Application for Authorization Under Section 203 of the Federal Power Act of Badger Wind, LLC.

Filed Date: 4/24/25.

Accession Number: 20250424-5239.

Comment Date: 5 p.m. ET 5/15/25.

Take notice that the Commission received the following exempt wholesale generator filings:

Docket Numbers: EG25-304-000.

Applicants: Mountain Peak Power, LLC.

Description: Mountain Peak Power, LLC submits Notice of Self-Certification of Exempt Wholesale Generator Status.

Filed Date: 4/25/25.

Accession Number: 20250425-5242.

Comment Date: 5 p.m. ET 5/16/25.

Take notice that the Commission received the following electric rate filings:

Docket Numbers: ER10-2196-009; ER13-1141-007; ER13-1142-007; ER13-1143-010; ER13-1144-010; ER17-1849-008; ER19-1009-003; ER19-1633-004; ER19-1634-004; ER19-1638-004; ER20-844-005; ER20-2063-001; ER20-2452-010; ER20-2453-011.

Applicants: Hamilton Patriot LLC, Hamilton Liberty LLC, Trafigura Trading LLC, Hamilton Projects Acquiror, LLC, Tiverton Power LLC, Bridgeport Energy LLC, Rumford Power LLC, Revere Power, LLC, Nautilus Power, LLC, Essential Power Rock Springs, LLC, Essential Power OPP, LLC, Essential Power Newington, LLC, Essential Power Massachusetts, LLC, Lakewood Cogeneration Limited Partnership.

Description: Notice of Non-Material Change in Status of Lakewood Cogeneration, L.P., et al.

Filed Date: 4/24/25.

Accession Number: 20250424-5240.

Comment Date: 5 p.m. ET 5/15/25.

Docket Numbers: ER16-2449-004; ER21-628-004.

Applicants: Harry Allen Solar Energy LLC, Boulder Solar II, LLC.

Description: Second Supplement to October 31, 2023, Notice of Change in Status of Boulder Solar II, LLC, et al.

Filed Date: 4/24/25.

Accession Number: 20250424-5244.

Comment Date: 5 p.m. ET 5/15/25.

Docket Numbers: ER19-381-004.

Applicants: Power Holding LLC.

Description: Notice of Material Change in Status of Power Holding LLC.

Filed Date: 4/25/25.

Accession Number: 20250425-5141.

Comment Date: 5 p.m. ET 5/16/25.

Docket Numbers: ER23-166-002; ER23-167-002; ER23-168-002; ER24-1420-004; ER24-1421-004.

Applicants: Superstition Energy Storage LLC, Sierra Estrella Energy Storage LLC, Cross Town Energy Storage, LLC, Cranberry Point Energy Storage, LLC, Energy Storage Resources, LLC.

Description: Notice of Non-Material Change in Status of Energy Storage Resources, LLC, et al.

Filed Date: 4/23/25.

Accession Number: 20250423-5287.

Comment Date: 5 p.m. ET 5/14/25.

Docket Numbers: ER23-709-002.

Applicants: Mississippi Power Company.

Description: Compliance filing: Compliance Filing Associated with Fuel Factor Settlement to be effective N/A.

Filed Date: 4/25/25.

Accession Number: 20250425-5073.

Comment Date: 5 p.m. ET 5/16/25.

Docket Numbers: ER24-1652-003.

Applicants: Mississippi Power Company.

Description: Compliance filing: Compliance Filing Associated with MRA 31 Rate Case Settlement to be effective 5/29/2024.

Filed Date: 4/25/25.

Accession Number: 20250425-5069.

Comment Date: 5 p.m. ET 5/16/25.

Docket Numbers: ER24-2776-001.

Applicants: Southern California Edison Company.

Description: Compliance filing: Supplemental to WDAT 2023 Order Compliance Filing to be effective 8/15/2024.

Filed Date: 4/25/25.

Accession Number: 20250425-5093.

Comment Date: 5 p.m. ET 5/16/25.

Docket Numbers: ER25-1450-001.

Applicants: Entergy Louisiana, LLC.

Description: Tariff Amendment: ELL-Pelican Power WDS Agreement to be effective 3/1/2025.

Filed Date: 4/25/25.

Accession Number: 20250425-5240.

Comment Date: 5 p.m. ET 5/16/25.

Docket Numbers: ER25-1452-000.

Applicants: ITC Great Plains, LLC.

Description: Report Filing: Supplemental Filing to be effective N/A.

Filed Date: 4/25/25.

Accession Number: 20250425-5128.

Comment Date: 5 p.m. ET 5/16/25.

Docket Numbers: ER25-2035-000.

Applicants: Panoche Energy Center, LLC.

Description: 205(d) Rate Filing: Notice of Change in Status to be effective 4/25/2025.

Filed Date: 4/24/25.

Accession Number: 20250424-5221.

Comment Date: 5 p.m. ET 5/15/25.

Docket Numbers: ER25-2036-000.

Applicants: PJM Interconnection, L.L.C.

Description: 205(d) Rate Filing: Amendment to ISA, SA No. 6779; AF1-028 to be effective 6/25/2025.

Filed Date: 4/25/25.

Accession Number: 20250425-5022.

Comment Date: 5 p.m. ET 5/16/25.

Docket Numbers: ER25-2037-000.

Applicants: American Transmission Systems, Incorporated.

Description: 205(d) Rate Filing: ATSI Submits Revised IA No. 3993 to be effective 6/25/2025.

Filed Date: 4/25/25.

Accession Number: 20250425-5023.

Comment Date: 5 p.m. ET 5/16/25.

Docket Numbers: ER25-2038-000.

Applicants: PJM Interconnection, L.L.C.

Description: 205(d) Rate Filing: Revisions to MISO-JOA, Article IX, section 9.3 re: Affected Systems to be effective 6/25/2025.

Filed Date: 4/25/25.

Accession Number: 20250425-5037.

Comment Date: 5 p.m. ET 5/16/25.

Docket Numbers: ER25-2039-000.

Applicants: Midcontinent Independent System Operator, Inc., Union Electric Company.

Description: 205(d) Rate Filing: Union Electric Company submits tariff filing per 35.13(a)(2)(iii: 2025-04-25_SA 4473 Ameren Missouri-Macon County Solar E&P (J2050) to be effective 4/26/2025.

Filed Date: 4/25/25.

Accession Number: 20250425-5047.

Comment Date: 5 p.m. ET 5/16/25.

Docket Numbers: ER25-2040-000.

Applicants: Midcontinent Independent System Operator, Inc.

Description: 205(d) Rate Filing: 2025-04-25_MISO-PJM JOA re: Queue Priority and Coordination Rules to be effective 6/25/2025.

Filed Date: 4/25/25.

Accession Number: 20250425-5048.

Comment Date: 5 p.m. ET 5/16/25.

Docket Numbers: ER25-2041-000.

Applicants: PJM Interconnection, L.L.C.

Description: 205(d) Rate Filing: Amendment to Service Agreement No. 4940; Queue Position No. AE2-034 to be effective 6/25/2025.

Filed Date: 4/25/25.

Accession Number: 20250425-5090.

Comment Date: 5 p.m. ET 5/16/25.

Docket Numbers: ER25-2042-000.

Applicants: AEP Texas Inc.

Description: 205(d) Rate Filing: AEPTX-Grapefruit Solar Generation Interconnection Agreement to be effective 4/10/2025.

Filed Date: 4/25/25.

Accession Number: 20250425-5096.

Comment Date: 5 p.m. ET 5/16/25.

Docket Numbers: ER25-2043-000.

Applicants: Shallow Basket Energy, LLC.

Description: Initial Rate Filing: Baseline new MBR to be effective 4/26/2025.

Filed Date: 4/25/25.

Accession Number: 20250425-5161.

Comment Date: 5 p.m. ET 5/16/25.

Docket Numbers: ER25-2044-000.

Applicants: California Independent System Operator Corporation.

Description: 205(d) Rate Filing: 2025-04-25 Interconnection Process Enhancements 2023—Track 3 to be effective 6/25/2025.

Filed Date: 4/25/25.

Accession Number: 20250425-5191.

Comment Date: 5 p.m. ET 5/16/25.

Docket Numbers: ER25-2045-000.

Applicants: Tri-State Generation and Transmission Association, Inc.

Description: Tariff Amendment: Notice of Cancellation of Rate Schedule FERC No. 261 to be effective 3/31/2025.

Filed Date: 4/25/25.

Accession Number: 20250425-5192.

Comment Date: 5 p.m. ET 5/16/25.

Docket Numbers: ER25-2047-000.

Applicants: Pixley Solar Energy LLC, Flat Ridge 4 Wind, LLC.

Description: Tariff Amendment: Flat Ridge 4 Wind, LLC submits tariff filing per 35.15: MBR Tariff Cancellation to be effective 12/31/9998.

Filed Date: 4/25/25.

Accession Number: 20250425-5205.

Comment Date: 5 p.m. ET 5/16/25.

Docket Numbers: ER25-2048-000.

Applicants: Flat Ridge 4 Wind, LLC.

Description: Tariff Amendment: MBR Tariff Cancellation to be effective 12/31/9998.

Filed Date: 4/25/25.

Accession Number: 20250425-5225.

Comment Date: 5 p.m. ET 5/16/25.

Docket Numbers: ER25-2049-000.

Applicants: PacifiCorp.

Description: 205(d) Rate Filing: Project Construction Agreement—SA No. 1152 to be effective 5/26/2025.

Filed Date: 4/25/25.

Accession Number: 20250425-5229.

Comment Date: 5 p.m. ET 5/16/25.

Docket Numbers: ER25-2050-000.

Applicants: Midcontinent Independent System Operator, Inc.

Description: 205(d) Rate Filing: 2025-04-25_Elimination of dual registration for EDR resources to be effective 7/19/2025.

Filed Date: 4/25/25.

Accession Number: 20250425-5232.

Comment Date: 5 p.m. ET 5/16/25.

Take notice that the Commission received the following electric securities filings:

Docket Numbers: ES25-36-000.

Applicants: Midcontinent Independent System Operator, Inc.

Description: Supplement to Application Under Section 204 of the Federal Power Act for Authorization to Issue Securities of Midcontinent Independent System Operator, Inc.

Filed Date: 4/21/25.

Accession Number: 20250421-5201.

Comment Date: 5 p.m. ET 5/1/25.

Docket Numbers: ES25-41-000; ES25-42-000; ES25-43-000; ES25-44-000; ES25-45-000.

Applicants: Avangrid Service Company, New York State Electric & Gas Corporation, Rochester Gas and Electric Corporation, Central Maine Power Company, The United Illuminating Company, Avangrid Service Company, New York State Electric & Gas Corporation, Rochester Gas and Electric Corporation, Central Maine Power Company, The United Illuminating Company, Avangrid Service Company, New York State Electric & Gas Corporation, Rochester Gas and Electric Corporation, Central Maine Power Company, The United Illuminating Company, Avangrid Service Company, New York State Electric & Gas Corporation, Rochester Gas and Electric Corporation, Central Maine Power Company, The United Illuminating Company, Avangrid Service Company, New York State Electric & Gas Corporation, Rochester Gas and Electric Corporation, Central Maine Power Company, The United Illuminating Company.

Description: Application Under Section 204 of the Federal Power Act for Authorization to Issue Securities of Avangrid Service Company, et al.

Filed Date: 4/25/25.

Accession Number: 20250425-5138.

Comment Date: 5 p.m. ET 5/16/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: April 25, 2025.
Debbie-Anne A. Reese,
Secretary.

[FR Doc. 2025-07559 Filed 4-30-25; 8:45 am]

BILLING CODE 6717-01-P